ENVIRONMENTAL PROTECTION AGENCY

40 CFR Parts 52 and 70

[EPA-R07-OAR-2013-0765; FRL-9940-97-Region 7]

Approval and Promulgation of Implementation Plans; State of Kansas; Annual Emissions Fee and Annual Emissions Inventory

AGENCY: Environmental Protection Agency (EPA).

ACTION: Direct final rule; technical amendment.

SUMMARY: The Environmental Protection Agency (EPA) inadvertently approved and codified this action under both part 52 (Approval and Promulgation of Implementation Plans) and part 70 (State Operating Permit Programs). This technical amendment removes the part 52 approval and codification and makes a clarification to part 70.

DATES: This action is effective January 14, 2016.

FOR FURTHER INFORMATION CONTACT: Lachala Kemp at (913) 551-7214, or by email at kemp.lachala@epa.gov.

SUPPLEMENTARY INFORMATION: On January 27, 2014 (79 FR 4274), EPA published a direct final rule approving a SIP revision for Kansas that included revisions to K.A.R. 28-19-202 “Annual Emission Fees.” The rule revision amended KAR 28-19-202 “Annual Emissions Fees” to align the state's reporting requirements with EPA's reporting requirements, and was incorrectly approved and codified under part 52 and part 70.

This rule also included revisions to the operating permits program, K.A.R 28-19-517 “Class I Operating Permits; Annual Emissions Inventory.” This part 70 appendix A revision added new paragraph (f) “The Kansas Department of Health and Environment submitted revisions to Kansas Administrative Record (KAR) 28-19-202 and 28-19-517 on April 15, 2011; approval of section (c) effective March 28, 2014.”

This technical amendment removes the erroneous part 52 approval of KAR 28-19-202 “Annual Emissions Fees” and recodifies the table. This action also revises paragraph (f) to read as follows: (f) “The Kansas Department of Health and Environment submitted revisions to Kansas Administrative Record (KAR) 28-19-202 and 28-19-517 on April 15, 2011; effective March 28, 2014.”

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: December 23, 2015.
Becky Weber,
Acting Regional Administrator, Region 7.

Chapter I, title 40 of the Code of Federal Regulations is amended as follows:

PART 52—APPROVAL AND PROMULGATION OF IMPLEMENTATION PLANS

1. The authority citation for part 52 continues to read as follows:

Authority: 42 U.S.C. 7401 et seq.

§ 52.870 [Amended]

2. In § 52.870, paragraph(c) is amended by removing the table entry “K.A.R. 28-19-202.”

PART 70—STATE OPERATING PERMIT PROGRAMS

3. The authority citation for part 70 continues to read as follows:

Authority: 42 U.S.C. 7401 et seq.

4. Appendix A is amended by revising paragraph (f) under Kansas to read as follows:

Appendix A to Part 70—Approval Status of State and Local Operating Permits Programs

* * * * *

Kansas

* * * * *

(f) The Kansas Department of Health and Environment submitted revisions to Kansas Administrative Record (KAR) 28-19-202 and 28-19-517 on April 15, 2011; effective March 28, 2014.

* * * * *

[FR Doc. 2016-00573 Filed 1-13-16; 8:45 am]

BILLING CODE 6560-50-P